DEPARTMENT OF LABOR

Employment and Training Administration

[TA-W-71,032]

AGY Holding Corporation, Huntingdon, PA; Notice of Affirmative Determination Regarding Application for Reconsideration

By application dated June 1, 2010, a petitioner requested administrative reconsideration of the negative determination regarding workers' eligibility to apply for Trade Adjustment Assistance (TAA) applicable to workers and former workers of the subject firm. The determination was issued on April 27, 2010. The Notice of determination was published in the Federal Register on May 28, 2010 (75 FR 30072). Workers are engaged in employment related to the production of fine yarns and specialty glass yarns. The negative determination was based on the Department's findings that increased imports of fine yarns and specialty glass yarns did not contribute importantly to worker separations at the subject firm and no shift of production abroad occurred.

In the request for reconsideration, the petitioner provided additional information regarding a shift in production abroad.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 21st day of June, 2010.
Del Min Amy Chen,
Certifying Officer, Division of Trade Adjustment Assistance.

[FR Doc. 2010-16019 Filed 6-30-10; 8:45 am]

BILLING CODE 4510-FN-P